DEPARTMENT OF COMMERCE

International Trade Administration

[A-570-891]

Hand Trucks and Certain Parts Thereof From the People's Republic of China: Final Results of Administrative Review and Final Results of New Shipper Review

AGENCY: Import Administration, International Trade Administration, Department of Commerce.

EFFECTIVE DATE: May 15, 2007.

FOR FURTHER INFORMATION CONTACT: Maisha Cryor or Mark Manning; AD/CVD Operations, Office 4, Import Administration, International Trade Administration, U.S. Department of Commerce, 14th Street and Constitution Ave., N.W., Washington, DC 20230; telephone: (202) 482-5831 or (202) 482-5253, respectively.

SUMMARY: The Department of Commerce (“Department”) published its preliminary results of the administrative review and new shipper review of the antidumping duty order on hand trucks and certain parts thereof (“hand trucks”) from the People's Republic of China (“PRC”) on January 9, 2007. See Hand Trucks and Certain Parts Thereof From the People's Republic of China; Preliminary Results and Partial Rescission of Administrative Review and Preliminary Results of New Shipper Review, 72 FR 937 (January 9, 2007) (“Preliminary Results”). The period of review (“POR”) is December 1, 2004, through November 30, 2005. We invited interested parties to comment on our Preliminary Results. Based on our analysis of the comments received, we have made changes to our calculations. The final dumping margins for this review are listed in the “Final Results of Review” section below.

SUPPLEMENTARY INFORMATION: On February 1, 2006, the Department published in the Federal Register a notice of the initiation of the antidumping duty administrative review of hand trucks from the PRC for the period May 24, 2004, through November 30, 2005. See Initiation of Antidumping and Countervailing Duty Administrative Reviews and Request for Revocation in Part, 71 FR 5241 (February 1, 2006). On February 3, 2006, the Department also published in the Federal Register a notice of the initiation of the new shipper review of Since Hardware (Guangzhou) Co., Ltd. (“Since Hardware”). See Hand Trucks and Certain Parts Thereof From the People's Republic of China; Initiation of New Shipper Review, 71 FR 5810 (February 3, 2006).

The Department published the preliminary results of these reviews on January 9, 2007. See Preliminary Results. We invited parties to comment on our preliminary results of review. See Preliminary Results, 72 FR at 946-947. Forecarry Corporation and Formost Plastics & Metalworks (Jiaxing) Co., Ltd. (“Forecarry and Formost”) submitted their response to the Department's December 19, 2006, supplemental section D questionnaire on January 18, 2007. Forecarry and Formost submitted a case brief on February 14, 2007; Since Hardware submitted a case brief on February 15, 2007; and on February 16, 2007, Gleason Industrial Products, Inc., and Precision Products, Inc. (collectively, “the petitioner”) submitted a case brief. On February 20, 2007, the petitioner filed allegations that the case briefs submitted by Forecarry and Formost, and Since Hardware contained new information. Forecarry and Formost, and True Potential Co., Ltd. (“True Potential”) submitted rebuttal briefs on February 20, 2007, Since Hardware submitted a rebuttal brief on February 21, 2007, and the petitioner submitted a rebuttal brief on February 22, 2007. On March 7, 2007, the Department notified Forecarry and Formost that their case brief contained new information and requested that Forecarry and Formost resubmit their case brief, redacting factual information submitted after the deadline for new factual information, and not solicited by the Department, pursuant to 19 CFR 351.301(b)(2). Regarding the allegation of new information in Since Hardware's case brief, the Department has reviewed this allegation and examined the information contained in Since Hardware's prior submission. Based upon our analysis, the Department disagrees with the petitioner that Since Hardware's case brief contained new information. See Comment 18 of the Memorandum to David M. Spooner, Assistant Secretary for Import Administration, from Stephen J. Claeys, Deputy Assistant Secretary for Import Administration, “Issues and Decisions for the Final Results of Administrative and New Shipper Reviews,” dated May 9, 2007 (“Decision Memorandum”), for a complete discussion of this issue. On March 16, 2007, Forecarry and Formost resubmitted their case brief. On March 28, 2007, the Department held a public hearing concerning this issues raised by the parties in these reviews.

Scope of Antidumping Duty Order¹

¹ See Notice of Antidumping Duty Order: Hand Trucks and Certain Parts Thereof From the People's Republic of China, 69 FR 70122 (December 2, 2004).

The product covered by this order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (“HTSUS”), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular material measuring less than 5/8 inch in diameter; hand trucks that use motorized operations either to move the hand truck from one location to the next or to assist in the lifting of items placed on the hand truck; vertical carriers designed specifically to transport golf bags; and wheels and tires used in the manufacture of hand trucks.

Separate Rates

Forecarry and Formost, Since Hardware, and True Potential requested separate, company-specific antidumping duty rates. In the Preliminary Results, we found that Forecarry and Formost, and Since Hardware are owned wholly by entities located in market-economy countries. Thus, the Department preliminarily granted a separate rate to these two exporters. See Preliminary Results, 72 FR at 943-944. For the final results, the Department continues to grant Forecarry and Formost, and Since Hardware, separate rates for this review period because no party submitted comments on this issue, and no evidence was placed on the record that questions the appropriateness of this determination. Regarding True Potential, which is a privately owned company in the PRC, the Department conducted a separate rate analysis in the Preliminary Results. Based upon our analysis, we preliminarily granted True Potential a separate rate. See Preliminary Results, 72 FR at 944. For the final results, the Department did not receive any comments on True Potential's separate rate, and no evidence was placed on the record that would warrant reconsideration of our separate rate analysis for True Potential. Therefore, the Department continues to find that True Potential has met the criteria for the application of a separate antidumping duty rate for this review period.

Analysis of Comments Received

All issues raised in the briefs and rebuttal briefs submitted by the parties in these reviews are addressed in the Decision Memorandum, which is hereby adopted by this notice. A list of the issues which parties raised and to which we responded in the Decision Memorandum is attached to this notice as an appendix. The Decision Memorandum is a public document which is on file in the Central Records Unit in room B-099 in the main Department building, and is accessible on the Web at http://www.ia.ita.doc.gov/frn. The paper copy and electronic version of the memorandum are identical in content.

Changes Since the Preliminary Results

Based on our analysis of comments received, we have made changes in the margin calculations for Since Hardware and True Potential. For a list of these changes, see Decision Memorandum, at the section titled “Changes Since the Preliminary Results.”

Adverse Facts Available

1. Forecarry and Formost

Sections 776(a)(1) and (2) of the Tariff Act of 1930, as amended (“Act”), provide that the Department shall apply “facts otherwise available” if necessary information is not on the record or an interested party or any other person (A) withholds information that has been requested, (B) fails to provide information within the deadlines established, or in the form and manner requested by the Department, subject to subsections (c)(1) and (e) of section 782, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information if it can do so without undue difficulties.

Section 776(b) of the Act further provides that the Department may use an adverse inference in applying the facts otherwise available when a party has failed to cooperate by not acting to the best of its ability to comply with a request for information. Section 776(b) of the Act also authorizes the Department to use as adverse facts available (“AFA”) information derived from the petition, the final determination, a previous administrative review, or other information placed on the record.

In the Preliminary Results, the Department found that Forecarry and Formost failed to provide usable factors of production (“FOPs”). Further, the Department found that Forecarry and Formost (A) withheld information regarding Formost's FOPs that had been requested, (B) failed to provide the FOP information in the form and manner requested by the Department, and (C) due to the absence of this information, Forecarry and Formost significantly impeded the proceeding because the Department could not tie the reported FOP database to appropriate source documentation. See Preliminary Results, 72 FR at 940-941. Thus, in the absence of a usable FOP database, the Department applied total facts available, according to sections 776(a)(2)(A), (B), and (C) of the Act. Id. at 941. Nonetheless, the Department provided Forecarry and Formost with a final opportunity to substantiate their reported FOPs by: (1) reconciling the reported FOPs to Formost's normal books and records; and (2) demonstrating how the reported FOPs were calculated. See Supplemental Section D questionnaire, dated December 19, 2006.

The Department has reviewed Forecarry and Formost's response to the December 19, 2006, supplemental questionnaire, and the comments submitted by the parties regarding this issue. Based upon our analysis, for the final results, the Department finds that the information necessary to calculate an accurate and otherwise reliable margin is not available on the record with respect to Forecarry and Formost. Specifically, in its January 18, 2007, response to the Department's December 19, 2006, supplemental questionnaire, Forecarry and Formost failed to (1) reconcile the reported FOPs to Formost's normal books and records, and (2) demonstrate how the reported FOPs were calculated. See Comment 26 of the Decision Memorandum for a complete discussion of this issue. The Department continues to find that Forecarry and Formost withheld information, failed to provide information requested by the Department in the form and manner required, and significantly impeded the Department's ability to calculate an accurate margin. Therefore, pursuant to sections 776(a)(2)(A),(B) and (C) of the Act, the Department is resorting to facts otherwise available.

In the Preliminary Results, the Department found that it is reasonable to assume that Forecarry and Formost possessed the records necessary for this administrative review and that, by not supplying the information the Department requested, Forecarry and Formost failed to cooperate to the best of their ability. See Preliminary Results, 72 FR at 944. Therefore, the Department preliminarily applied an adverse inference. Id. For the final results, the Department continues to find that, in accordance with section 776(b) of the Act, it is appropriate to apply an adverse inference in selecting the facts available rate as it has determined that Forecarry and Formost did not act to the best of their ability to cooperate with the Department in this administrative review, because information placed on the record by Forecarry and Formost indicates that Forecarry and Formost reasonably could have responded to the Department's requests for information. As a result, we are continuing to apply the highest rate from the history of this proceeding, 383.60 percent, the PRC-wide rate from the less-than-fair-value (“LTFV”) amended final determination. See Amended Final Determination of Sales at Less Than Fair Value: Hand Trucks and Certain Parts Thereof From the People's Republic of China, 69 FR 65410, 65411 (November 12, 2004) (“Final Amended Determination”).

2. Future Tool and Shandong Machinery

In the Preliminary Results, the Department determined that it was not appropriate to grant Qingdao Future Tool, Inc. (“Future Tool”), and Shandong Machinery Import & Export Group Corporation (“Shandong Machinery”), a separate rate because both of these companies failed to respond to the Department's requests for information. See 72 FR at 942. For this reason, we considered Future Tool and Shandong Machinery as part of the PRC-wide entity. Moreover, since the PRC-wide entity did not respond to our requests for information, we applied total facts available to the PRC-wide entity pursuant to sections 776(a)(2)(A) and (C) of the Act. Id. For the final results, since no new information has been placed on the record regarding Future Tool, Shandong Machinery, or the PRC-wide entity, we continue to apply total facts available.

As we stated in the Preliminary Results, it is reasonable to assume that the PRC-wide entity (including Shandong Machinery and Future Tool) possessed the records necessary for this administrative review and that, by not supplying the information the Department requested, these companies failed to cooperate to the best of their ability. See Preliminary Results, 72 FR at 944. Accordingly, because the PRC-wide entity (including Future Tool and Shandong Machinery) failed to respond to the Department's requests for information, we continue to find that these companies have not acted to the best of their abilities in this proceeding, within the meaning of section 776(b) of the Act. Therefore, an adverse inference is warranted in selecting from the facts otherwise available. As a result, we are continuing to apply the highest rate from the history of this proceeding, 383.60 percent, the PRC-wide rate from the LTFV final determination, to the PRC-wide entity (including Future Tool and Shandong Machinery). See Final Amended Determination.

Corroboration

Section 776(c) of the Act provides that, when the Department relies on secondary information rather than on information obtained in the course of an investigation or review, it shall, to the extent practicable, corroborate that information from independent sources that are reasonably at its disposal. Secondary information is defined as “information derived from the petition that gave rise to the investigation or review, the final determination concerning the subject merchandise, or any previous review under section 751 concerning the subject merchandise.” See Statement of Administrative Action (“SAA”) accompanying the Uruguay Round Agreements Act, H. Doc. No. 316, 103d Cong., 2d Sess. Vol. 1 at 870 (1994). The SAA clarifies that “corroborate” means that the Department will satisfy itself that the secondary information to be used has probative value. Id. To corroborate secondary information, the Department will, to the extent practicable, examine the reliability and relevance of the information to be used. The Department, however, need not prove that the selected facts available are the best alternative information. See SAA at 869; see also Tapered Roller Bearings and Parts Thereof, Finished and Unfinished From Japan, and Tapered Roller Bearings, Four Inches or Less in Outside Diameter, and Components Thereof, From Japan; Preliminary Results of Antidumping Duty Administrative Reviews and Partial Termination of Administrative Reviews, 61 FR 57391, 57392 (November 6, 1996) (unchanged in the final results). Independent sources used to corroborate such evidence may include, for example, “published price lists, official import statistics and customs data, and information obtained from interested parties during the instant investigation or review.” See 19 CFR 351.308(d) and SAA at 870; see also Notice of Preliminary Determination of Sales at Less Than Fair Value: High and Ultra-High Voltage Ceramic Station Post Insulators from Japan, 68 FR 35627, 35629 (June 16, 2003) (where the Department reviewed the adequacy and accuracy of the information in the petition) (unchanged in final determination); and Notice of Final Determination of Sales at Less Than Fair Value: Live Swine From Canada, 70 FR 12181, 12183 (March 11, 2005) (where the Department compared the normal values and U.S. prices submitted by the petitioners to data submitted by the respondents for whom the Department calculated a margin).

The reliability of the AFA rate was determined in the final determination of the investigation when the Department compared the U.S. prices from the price quotations in the petition to prices of comparable products sold by a mandatory respondent in the LTFV investigation, and found them to be comparable. See Final Amended Determination. The Department applied this rate as AFA to Qingdao Xinghua Group Co., Ltd. (“Xinghua”) in the Final Amended Determination.² The Department also compared the surrogate values used in the petition to the surrogate values selected for the final determination, and then adjusted and replaced certain values to make them more accurate. Finally, the Department replaced the surrogate value ratios in the petition with those used in the final investigation. Therefore, in the investigation, the Department found this margin to be reliable. Id. Further, the application of this rate was subject to comment from interested parties in the instant proceeding. The Department has received no information to date that warrants revisiting the issue of the reliability of the rate calculation itself. See, e.g., Certain Preserved Mushrooms From the People's Republic of China: Final Results and Partial Rescission of the New Shipper Review and Final Results and Partial Rescission of the Third Antidumping Duty Administrative Review, 68 FR 41304, 41307-41308 (July 11, 2003). Since no information has been presented in the current review that calls into question the reliability of this information, the Department finds the selected rate reliable.

² In the final determination, the Department applied total AFA to Xinghua, and assigned Xinghua the PRC-wide rate of 386.75 percent. See Notice of Final Determination of Sales at Less Than Fair Value: Hand Trucks and Certain Parts Thereof from the People's Republic of China, 69 FR 60980, 60984 (October 14, 2004). The Department revised the PRC-wide rate in the amended final determination from 386.75 percent to 383.60 percent. See Final Amended Determination, 69 FR at 65411.

With respect to the relevance aspect of corroboration, the Department will consider information reasonably at its disposal to determine whether a margin continues to have relevance. Where circumstances indicate that the selected margin is not appropriate as AFA, the Department will disregard the margin and determine an appropriate margin. For example, in Fresh Cut Flowers From Mexico: Final Results of Antidumping Duty Administrative Review, 61 FR 6812 (February 22, 1996), the Department disregarded the highest margin in that case as adverse best information available (the predecessor to facts available), because the margin was based on another company's uncharacteristic business expense resulting in an unusually high margin. Similarly, the Department does not apply a margin that has been discredited. See D&L Supply Co. v. United States, 113 F.3d 1220, 1221 (Fed. Cir. 1997) where the Court ruled that the Department will not use a margin that has been judicially invalidated. Nothing on the record of this review calls into question the relevance of the margin selected as AFA. Further, the selected margin is currently the PRC-wide rate. Moreover, this rate has not been invalidated judicially. Thus, it is appropriate to use the selected rate as AFA in the instant review. Therefore, we determine that the rate from the Final Amended Determination continues to be relevant for use in this administrative review.

As the recalculated Final Amended Determination rate is both reliable and relevant, we determine that it has probative value. As a result, the Department determines that the Final Amended Determination rate is corroborated for the purposes of this administrative review and may reasonably be applied to Forecarry and Formost, and the PRC-wide entity, as AFA. Accordingly, we determine that the Final Amended Determination rate of 383.60 percent, which is the highest rate from any segment of this administrative proceeding, meets the corroboration criteria established in section 776(c) of the Act that secondary information have probative value.

Final Results of Review

We determine that the following percentage margins exist for the period December 1, 2004, through November 30, 2005:

Exporter/manufacturer | Weighted-average margin percentage
Forecarry Corp. and Formost Plastics & Metalworks (Jianxing) Co., Ltd. | 383.6
Since Hardware (Guangzhou) Co., Ltd | 0
True Potential Co., Ltd. | 17.59
PRC-wide Rate | 383.6

Assessment Rates

Pursuant to 19 CFR 351.212(b), the Department will determine, and U.S. Customs and Border Protection (“CBP”) shall assess, antidumping duties on all appropriate entries. The Department intends to issue assessment instructions to CBP within 15 days after the date of publication of these final results of review. For assessment purposes, where possible, we calculated importer-specific assessment rates for hand trucks from the PRC via ad valorem duty assessment rates based on the ratio of the total amount of the dumping margins calculated for the examined sales to the total entered value of those same sales. However, as noted in the Preliminary Results, we calculated importer-specific per-unit assessment instructions because True Potential was unable to provide the entered value of its reported sales. See Preliminary Results at 72 FR at 947. We will instruct CBP to assess antidumping duties on all appropriate entries covered by this review.

Cash Deposit Requirements

The following cash deposit requirements will be effective upon publication of this notice of final results of administrative review for all shipments of hand trucks from the PRC entered, or withdrawn from warehouse, for consumption on or after the date of publication, as provided by section 751(a)(1) of the Act: (1) for Forecarry and Formost, Since Hardware, and True Potential, which each have separate rates, the cash deposit rate will be the company-specific rate shown above; (2) for previously reviewed or investigated companies not listed above that have a separate rate, the cash deposit rate will continue to be the company-specific rate published for the most recent period; (3) the cash deposit rate for all other PRC exporters will be 383.60 percent, the current PRC-wide rate; and (4) the cash deposit rate for all non-PRC exporters will be the rate applicable to the PRC exporter that supplied that exporter. These cash deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: May 9, 2007.
David M. Spooner,
Assistant Secretary for Import Administration.

Appendix

I. General Issues

Comment 1: Whether the Department Should Use an Electricity-Specific Inflation Index to Adjust the Electricity Surrogate Value.

Comment 2: Whether the Department Should Include Packing Materials and Packing Labor in the Application Bases for Surrogate Financial Ratios.

Comment 3: Whether the Department Should Correct Clerical Errors in the Application of the Surrogate Values for Inland Freight Expenses.

Comment 4: Whether the Department Should Correct Clerical Errors in the Application of the Surrogate Values for Domestic Brokerage and Handling Expenses.

Comment 5: Whether the Department Should Select Different Financial Statements to Value Factory Overhead, Selling, General & Administrative Expenses, and Profit.

Comment 6: Whether the Department Should Use the 2004-2005 or the 2005-2006 Financial Statements of Jay Equipment to Calculate Overhead, Selling, General & Administrative Expenses and Profit.

Comment 7: Whether the Department Should Correct Its Calculation of the Surrogate Financial Ratios for Rexello Castors Private Ltd.

Comment 8:Whether the Department Should Correct Its Application of the Surrogate Value for Hydrochloric Acid.

Comment 9: Whether the Department Should Apply an Updated Surrogate Value for Brokerage and Handling Expenses.

Comment 10: Whether the Department Should Apply the Most Recently Calculated Non-Market Economy Wage Rate for the PRC.

II. Company-Specific Issues

A. Since Hardware Issues

Comment 11: Whether the Department Should Accept Since Hardware's Reported Factors of Production Methodology.

Comment 12: Whether the Department Should Reject Since Hardware's Market Economy Purchases of Steel Inputs.

Comment 13: Whether the Department Should Assign a Surrogate Value to Plastic Bags.

Comment 14: Whether the Department Should Assign Bungee Cable a Different HTS Classification.

Comment 15: Whether the Department Should Assign a Surrogate Value to the Input for Petrolatum.

Comment 16: Whether the Inclusion of South Korea in the Calculation of the Surrogate Value for Muriate of Potash is Warranted.

Comment 17:Whether the Calculation of the Surrogate Value for Welding Rod is Correct.

Comment 18: Whether the Department Should Assign Bearings a Different HTS Classification.

Comment 19: Whether the Inclusion of Packing-Related Inputs in Cost of Manufacturing is Valid.

B. True Potential Issues

Comment 20: Whether the Department Should Add Trading Company Factors for Selling, General and Administrative Expenses and Profit to its Calculation of True Potential's Normal Value.

Comment 21: Whether the Department Should Correct its Application of a Surrogate Value for Certain Ball Bearings.

Comment 22: Whether the Department Should Correct Its Surrogate Value Calculation for Carbon Dioxide to Include Imports from Hong Kong.

Comment 23: Whether the Department Should Correct its Surrogate Value Calculation for Welding Solder to Include Imports from Austria and the Netherlands.

C. Future Tool's Issue

Comment 24: Whether the Department Should Continue to Apply Adverse Facts Available to Future Tool.

D. Shangdong Machinery's Issue

Comment 25: Whether the Department Should Continue to Apply Adverse Facts Available to Shandong Machinery.

E. Forecarry and Formost's Issues

Comment 26: Whether to Apply Facts Available to Forecarry and Formost.

Comment 27: Whether to Apply Adverse Facts Available to Forecarry and Formost.

[FR Doc. E7-9324 Filed 5-14-07; 8:45 am]

BILLING CODE 3510-DS-S